DEPARTMENT OF ENERGY

Office of Energy Efficiency and Renewable Energy

Agency Information Collection Extension

AGENCY: Office of Energy Efficiency and Renewable, Energy Department of Energy.

ACTION: Notice and Request for OMB Review and Comment.

SUMMARY: The Department of Energy (DOE) has submitted to the Office of Management and Budget (OMB) for clearance, pursuant to the Paperwork Reduction Act of 1995, a three-year extension to its collection of information titled: Budget Justification, OMB No. 1910-5162. The proposed collection will establish application consistency for numerous Grant and Cooperative Agreement application packages from potential and chosen recipients. This effort will also streamline processes and provide applicants with a clear and straightforward tool to assist with project budgeting. In addition it will endow DOE reviewers with adequate information to determine if proposed costs are allowable, allocable, and reasonable.

DATES: Comments regarding this collection must be received on or before February 17, 2015. If you anticipate that you will be submitting comments, but find it difficult to do so within the period of time allowed by this notice, please advise the DOE Desk Officer at OMB of your intention to make a submission as soon as possible. The Desk Officer can be reached at 202-395-4650.

ADDRESSES: Written comments should be sent to:

DOE Desk Officer, Office of Information and Regulatory Affairs, Office of Management and Budget, New Executive Office Building, Room 10102, 735 17th Street NW., Washington, DC 20503.

And to:

U.S. Department of Energy, Golden Field Office, 15013 Denver West Parkway Golden, CO 80401-3111, Attn: James Cash.

FOR FURTHER INFORMATION CONTACT: Questions may be directed to James Cash at (720) 356-1456 or by email at james.cash@ee.doe.gov. The information collection instrument titled, Budget Justification, may also be viewed at http://www1.eere.energy.gov/financing/resources.html.

SUPPLEMENTARY INFORMATION: This information collection request contains:

(1) OMB No.: 1910-5162, Budget Justification;

(2) Information Collection Request Title: Budget Justification;

(3) Type of Request: Renewal;

(4) Purpose: This collection of information is necessary in order for DOE to identify allowable, allocable, and reasonable recipient project costs eligible for Grants and Cooperative Agreements under EERE programs;

(5) Annual Estimated Number of Respondents: 400;

(6) Annual Estimated Number of Total Responses: 400;

(7) Annual Estimated Number of Burden Hours: 24 hours, per response;

(8) Annual Estimated Reporting and Recordkeeping Cost Burden: $899.04 per one time response;

(9) Authority: 10 CFR 600.112.

Issued in Golden, CO, on December 27, 2014.
James Cash,
Contracting Officer.

[FR Doc. 2015-00603 Filed 1-15-15; 8:45 am]

BILLING CODE 6450-01-P